DEPARTMENT OF THE INTERIOR

Bureau of Ocean Energy Management

[Docket No. BOEM-2023-0047]

Notice of Availability of a Joint Record of Decision for the Proposed Coastal Virginia Offshore Wind Commercial Project

AGENCY: Bureau of Ocean Energy Management (BOEM), Interior; National Marine Fisheries Service (NMFS), National Oceanic and Atmospheric Administration (NOAA), Commerce.

ACTION: Record of decision (ROD); notice of availability.

SUMMARY: BOEM announces the availability of the joint ROD on the Final Environmental Impact Statement (EIS) for the construction and operations plan (COP) submitted by Virginia Electric and Power Company (dba Dominion Energy) for its proposed Coastal Virginia Offshore Wind Commercial Project (Project), offshore Virginia Beach, Virginia. The joint ROD includes the Department of the Interior's (DOI) decision regarding the COP and NMFS' plans for decision, pending completion of all statutory processes, regarding Dominion Energy's requested Incidental Take Regulations (ITR) and an associated Letter of Authorization (LOA) under the Marine Mammal Protection Act (MMPA). NMFS has adopted the final EIS to support its decision of whether or not to issue the requested ITR under the MMPA. The joint ROD concludes the National Environmental Policy Act process for each agency.

ADDRESSES: The joint ROD and associated information are available on BOEM's website at https://www.boem.gov/renewable-energy/state-activities/CVOW-C.

FOR FURTHER INFORMATION CONTACT: For information related to BOEM's action, contact Jessica Stromberg, BOEM Office of Renewable Energy Programs, 45600 Woodland Road, VAM-OREP, Sterling, Virginia 20166, (703) 787-1730, or jessica.stromberg@boem.gov; For information related to NMFS' action, contact Katherine Renshaw, NOAA Office of General Counsel, (302) 515-0324.

SUPPLEMENTARY INFORMATION: Dominion Energy seeks approval to construct, operate, and maintain the Project: a wind energy facility and the associated export cables on the Outer Continental Shelf (OCS) offshore Virginia. The Project would be developed within the range of design parameters outlined in the COP, subject to applicable mitigation measures.

The Project as proposed in the COP would include up to 202 wind turbine generators (WTGs); 3 offshore, high voltage, alternating current substations; inter-array cables linking the individual turbines to the offshore substations; substation interconnector cables linking the substations to each other; offshore export cables; an onshore export cable system; an onshore switching station north of Harpers Road (Harpers Switching Station) or north of Princess Anne Road (Chicory Switching Station) in Virginia Beach, Virginia; and an overhead power line connection to the existing electrical grid at the Fentress Substation in Chesapeake, Virginia.

The WTGs, offshore substations, inter-array cables, and substation interconnector cables would be located on the OCS approximately 24 nautical miles (27 statute miles) east of Virginia Beach, Virginia, within the area defined by Renewable Energy Lease OCS-A-0483. The offshore export cables would be buried below the seabed surface on the OCS and Commonwealth of Virginia-owned submerged lands. The onshore export cables, substations, and grid connections would be located in Princess Anne County, Virginia.

After carefully considering public comments on the draft EIS and the alternatives described and analyzed in the final EIS, DOI selected Alternative B, “Revised Layout to Accommodate the Fish Haven and Navigation,” in combination with Alternative D-1, “Onshore Habitat Impact Minimization Alternative.” This combination of alternatives B and D-1 is the preferred alternative identified in the final EIS. The anticipated mitigation, monitoring, and reporting requirements, which will be included in BOEM's COP approval as terms and conditions, are included in the ROD, which is available at: https://www.boem.gov/renewable-energy/state-activities/CVOW-C.

NMFS has adopted BOEM's final EIS to support its decision of whether or not to promulgate the requested ITR and issue the associated LOA to Dominion Energy. NMFS' final decision of whether or not to promulgate the requested ITR and issue the LOA will be documented in a separate Decision Memorandum prepared in accordance with internal NMFS policy and procedures. The final ITR and a notice of issuance of the LOA, if issued, will be published in the Federal Register. The LOA would authorize Dominion Energy to take small numbers of marine mammals incidental to Project construction and would set forth permissible methods of incidental taking; means of affecting the least practicable adverse impact on the species and their habitat; and requirements for monitoring and reporting. Pursuant to section 7 of the Endangered Species Act, NMFS issued a final Biological Opinion to BOEM on September 18, 2023, evaluating the effects of the proposed action on ESA-listed species. The proposed action in the Biological Opinion includes the associated permits, approvals, and authorizations that may be issued.

Authority: National Environmental Policy Act of 1969, as amended, (42 U.S.C. 4321 et seq.); 40 CFR 1505.2.

Karen Baker,
Chief, Office of Renewable Energy Programs, Bureau of Ocean Energy Management.

[FR Doc. 2023-24295 Filed 11-2-23; 8:45 am]

BILLING CODE 4340-98-P